DEPARTMENT OF TRANSPORTATION

Federal Aviation Administration

RTCA Special Committee 172: Future Air-Ground Communications in the Very High Frequency (VHF) Aeronautical Data Band (118-137 MHz)

AGENCY: Federal Aviation Administration (FAA), DOT.

ACTION: Notice of RTCA Special Committee 172 meeting.

SUMMARY: The FAA is issuing this notice to advise the public of a meeting of RTCA Special Committee 172: Future Air-Ground Communications in the VHF Aeronautical Data Band (118-137 MHz).

DATES: The meeting will be held January 25-27, from 9 a.m. to 5 p.m.

ADDRESSES: The meeting will be held at RTCA, Inc., 1828 L St., NW., Suite 805, Washington, DC 20036.

FOR FURTHER INFORMATION CONTACT: RTCA Secretariat, 1828 L Street, NW., Washington, DC, 20036; telephone (202) 833-9339; fax (202) 833-9435; Web site http://www.rtca.org.

SUPPLEMENTARY INFORMATION: Pursuant to section 10(a)(2) of the Federal Advisory Committee Act (Pub. L. 92-463, 5 U.S.C., Appendix 2), notice is hereby given for a Special Committee 172 meeting. The agenda will include:

• January 25:

• Opening Plenary Session (Welcome and Introductory Remarks, Review of Agenda, Review Summary of Previous Meeting).

• Convene Working Group-2.

• Review Working Papers.

• Draft DO-22-224B revision 1, Signal-in-Space Minimum Aviation System Performance Standard (MASPS) for Advanced VHF Digital Data Communications Including Compatibility and Digital Voice Status incorporating approved working papers.

• Forward Appendix, Standard and Recommended Practices (SARPS) to DO-224B cross-reference.

• Review Action Items.

• January 26:

• Convene Working Group-3.

• Continue work on DO-281, Rev. A. Minimum Operational Performance Standards for Aircraft VDL Mode 2 Physical, Link and Network Layer.

• Changes needed due to International Civil Aviation Organization (ICAO) Amendment Proposals.

• DO-186a/ED23B difference resolution.

• Reconvene Plenary.

• Review relevant activities.

• ICAO aeronautical Mobile Communications Panel Work.

• FAA NEXCOM activities.

• EUROCAE WG-47 status and issues.

• Others as appropriate.

• Future work for SC-172.

• Closing Plenary Session (Other Business, Date and Place of Next Meeting, Adjourn).

• Re-Convene WG-2 per above to continue review of available working papers.

• January 27:

• Re-convene WG-2 as necessary, per above to complete review of available working papers.

• Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 16, 2004.
Natalie Ogletree,
FAA General Engineer, RTCA Advisory Committee.

[FR Doc. 05-558 Filed 1-11-05; 8:45 am]

BILLING CODE 4910-13-M